DEPARTMENT OF ENERGY

Federal Energy Regulatory Commission

[Docket No. AC03-70-000, et al.]

PSEG Fossil LLC, et al.; Electric Rate and Corporate Filings

August 18, 2003.

The following filings have been made with the Commission. The filings are listed in ascending order within each docket classification.

1. PSEG Fossil LLC, PSEG Nuclear LLC

[Docket No. AC03-70-000]

Take notice that on August 8, 2003, PSEG Fossil LLC (PSEG Fossil) and PSEG Nuclear LLC (PSEG Nuclear) submitted a filing seeking to comply with Commission's Order No. 631, 103 FERC ¶ 61,021. PSEG Fossil and PSEG Nuclear state that, as required by Order No. 631, on January 1, 2003, the difference between the liabilities on the books and the Asset Retirement Obligations (ARO) has been debited or credited to net income, as appropriate, since no amounts are to be refunded to customers.

Comment Date: August 28, 2003.

2. Portland General Electric Company

[Docket No. AC03-71-000]

Take notice that on August 7, 2003, Portland General Electric Company (PGE) submitted a filing in compliance with Commission's Order No. 631, 103 FERC 61,021. PGE states that, as required by Order No. 631, on January 1, 2003, PGE has recorded a cumulative effect of an accounting charge on net income for an Asset Retirement Obligation associated with the Boardman Coal Plant. PGE requests that the Commission grant waiver of the requirement that such compliance filing be made within 60 days of the effective date of the final rule and grant any other waivers as necessary to accept the compliance filing.

Comment Date: August 27, 2003.

3. Blue Spruce Energy Center, LLC

[Docket No. EG03-93-000]

Take notice that on August 14, 2003, Blue Spruce Energy Center, LLC (Blue Spruce), c/o/ Calpine Corporation, filed with the Federal Energy Regulatory Commission (Commission) an application for determination of exempt wholesale generator status pursuant to part 365 of the Commission's regulations.

Blue Spruce owns and operates a nominal 336 MW generation facility located in Aurora, Colorado and previously obtained an exempt wholesale generator determination. Blue Spruce states that it is seeking a new determination that it will remain an exempt wholesale generator notwithstanding a material change in facts. Blue Spruce further states that copies of the application were served upon the United States Securities and Exchange Commission and Colorado Public Utilities Commission.

Comment Date: September 8, 2003.

4. St. Paul Cogeneration, LLC

[Docket No. EG03-94-000]

Take notice that on August 14, 2003, St. Paul Cogeneration, LLC (Applicant), filed with the Federal Energy Regulatory Commission (Commission) an application for determination of exempt wholesale generator status pursuant to part 365 of the Commission's regulations.

Applicant states that it is a Minnesota limited liability company engaged directly and exclusively in the business of owning and operating an up to 35 MW biomass-fired cogeneration facility located in St. Paul, Minnesota. Applicant also states that electric energy produced by the facility will be sold exclusively at wholesale.

Comment Date: September 8, 2003.

5. Minnesota Power

[Docket No. ER03-831-001]

Take notice that on August 14, 2003, Minnesota Power tendered for filing in compliance with Commission Order No. 614, a Second Revised Rate Schedule FERC No. 125 for the Public Utilities Commission of Brainerd, Minnesota (Brainerd). Minnesota Power requests an effective date of February 28, 2003.

Comment Date: September 4, 2003.

6. New York State Electric & Gas Corporation

Docket No. ER03-927-001]

Take notice that August 14, 2003, New York State Electric & Gas Corporation (NYSEG) tendered for filing pursuant to FERC's July 31, 2003 acceptance letter, Docket No. ER03-927-000, paginated tariff sheets to the Service Agreements For Network Integrated Transmission Service consistent with Order No. 614, FERC 31,096.

NYSEG states it has served copies of the paginated tariff sheets to the customers under the Service Agreements For Network Integrated Transmission Service and the New York State Public Service Commission.

Comment Date: September 4, 2003.

7. Texxon Utilities, Ltd. Co.

[Docket No. ER03-1150-001]

Take notice that on August 14, 2003, Texxon Utilities, Ltd. Co., tendered for filing a revised Rate Schedule No. 1 amending their petition filed July 29, 2003 in Docket No. ER03-1150-000.

Comment Date:September 4, 2003.

8. Liberty Electric Power LLC

[Docket No. ER03-1209-000]

Take notice that on August 13, 2003, Liberty Electric Power, LLC (Liberty) tendered for filing, pursuant to Section 205 of the Federal Power Act (16 U.S.C. 824d) and part 35 of the Commission's Rules of Practice and Procedure, a revised rate schedule for reactive power to be provided to the PJM Interconnection, LLC transmission grid. Liberty requests an effective date of September 1, 2003.

Comment Date: September 3, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the eLibrary (FERRIS) link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-22349 Filed 8-29-03; 8:45 am]

BILLING CODE 6717-01-P